DEPARTMENT OF HOUSING AND URBAN DEVELOPMENT

[Docket No. FR-5500-N-15]

Notice of Availability: Notice of Funding Availability (NOFA) for HUD's Fiscal Year (FY) 2011 Lead Technical Studies and Healthy Homes Technical Studies Programs

AGENCY: Office of the Chief of the Human Capital Officer, HUD.

ACTION: Notice.

SUMMARY: HUD announces the availability on its Web site of the applicant information, submission deadlines, funding criteria, and other requirements for HUD's FY2011 Lead Technical Studies and Healthy Homes Technical Studies Programs NOFA. Specifically, this NOFA announces the availability of approximately $2.5 million, of the total amount available, approximately $500,000 is for Lead Technical Studies and approximately $2 million is for Healthy Homes Technical Studies. The funding is made available under the Department of Defense and Full-Year Continuing Appropriations Act, 2011, Public Law 112-10, approved April 15, 2011.

Purpose: The purpose of these programs is to fund technical studies to improve existing methods for detecting and controlling lead-based paint and other housing-related health and safety hazards; to develop new methods to detect and control these hazards; and to improve our knowledge of lead-based paint and other housing-related health and safety hazards.

SUPPLEMENTARY INFORMATION: The NOFA providing information regarding the funds available, application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail. The link from the funds available page will take you to the agency link on Grants.gov.

The Catalogue of Federal Domestic Assistance (CFDA) number for the Lead Technical Studies Program is 14.902. The Catalogue of Federal Domestic Assistance (CFDA) number for the Healthy Homes Technical Studies Program is 14.906. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: May 3, 2011.
Barbara S. Dorf,
Director, Office of Departmental Grants Management and Oversight, Office of the Chief of the Human Capital Officer.

[FR Doc. 2011-11156 Filed 5-6-11; 8:45 am]

BILLING CODE 4210-67-P